DEPARTMENT OF HOMELAND SECURITY

U.S. Customs and Border Protection

Conclusion of the National Customs Automation Program (NCAP) Test Concerning the Submission of Data Required by the Food Safety and Inspection Service (FSIS) in the Automated Commercial Environment (ACE)

AGENCY: U.S. Customs and Border Protection, Department of Homeland Security.

ACTION: General notice.

SUMMARY: This document announces the conclusion of the National Customs Automation Program (NCAP) test concerning the electronic transmission of certain import data required by the Food Safety and Inspection Service (FSIS) to the Automated Commercial Environment (ACE) using the Partner Government Agency (PGA) Message Set. U.S. Customs and Border Protection (CBP) has determined that the NCAP test has been a success, as ACE has proven capable of receiving and processing the data required by FSIS, and sharing that data with FSIS. Accordingly, this NCAP test will be concluded on October 11, 2016. CBP has made ACE the sole CBP-authorized electronic data interchange (EDI) system for most entry and entry summary filings, including entry and entry summary filings for meat, poultry and egg products regulated by FSIS. As a result, filers transmitting electronic import data required by FSIS with their electronic entry or entry summary must use ACE.

DATES: The NCAP test will conclude on October 11, 2016.

ADDRESSES: Comments concerning this notice and any aspect of this test may be submitted via email to Josephine Baiamonte, ACE Business Office (ABO), Office of Trade, at josephine.baiamonte@cbp.dhs.gov.

FOR FURTHER INFORMATION CONTACT: For CBP-related questions, contact Jeffrey Nii, Director, Inter-Agency Collaboration Division, Office of Trade, at jeffrey.c.nii@cbp.dhs.gov.

SUPPLEMENTARY INFORMATION:

I. Background

The National Customs Automation Program (NCAP) was established by Subtitle B of Title VI—Customs Modernization, in the North American Free Trade Agreement Implementation Act (Pub. L. 103-182, 107 Stat. 2057, December 8, 1993) (Customs Modernization Act). See 19 U.S.C. 1411. Through NCAP, the thrust of customs modernization was on trade compliance and the development of the Automated Commercial Environment (ACE), the planned successor to the legacy Automated Commercial System (ACS). ACE is an automated and electronic system for commercial trade processing. ACE will streamline business processes, facilitate growth in trade, ensure cargo security, and foster participation in global commerce, while ensuring compliance with U.S. laws and regulations and reducing costs for U.S. Customs and Border Protection (CBP) and its communities of interest. The ability to meet these objectives depends upon successfully modernizing CBP's business functions and the information technology that supports those functions. CBP's modernization efforts are accomplished through phased releases of ACE component functionality, designed to introduce a new capability or to replace a specific legacy ACS function.

On February 29, 2016, CBP published a notice in the Federal Register announcing its plan to begin a phased decommissioning of ACS for entry and entry summary filings, making ACE the sole CBP-authorized electronic data interchange (EDI) system for processing those electronic filings. See 81 FR 10264 (February 29, 2016). As part of this phased decommissioning, CBP announced that ACE would become the sole CBP-authorized EDI for processing certain electronic entries and entry summaries for merchandise subject to the import requirements of the Food and Drug Administration on June 15, 2016. See 81 FR 30320 (May 16, 2016). On July 23, 2016, CBP completed this phased decommissioning, and ACE became the sole CBP-authorized EDI system for most entry and entry summary filings for all filers. See 81 FR 32339 (May 23, 2016). Entries and entry summaries for the entry types specified in the May 23, 2016 notice, including entries and entry summaries accompanied by data required by the Food Safety and Inspection Service (FSIS), must be filed in ACE. ACS is no longer available for these filings.

II. The Partner Government Agency Message Set Test for FSIS Data

The Partner Government Agency (PGA) Message Set is the data required to satisfy a PGA's reporting requirements through ACE. It enables the trade community to submit trade-related data required by the PGA only once to CBP, thus improving communications between the agency and filers, and shortening entry processing time. Also, by virtue of being electronic, the PGA Message Set eliminates the necessity for the submission and subsequent manual processing of paper documents.

Through the Customs Modernization Act and section 101.9 of title 19 of the Code of Federal Regulations (19 CFR 101.9(b)), the Commissioner of CBP has authority to conduct limited test programs or procedures designed to evaluate planned components of the NCAP. See Treasury Decision (T.D.) 95-21.

On December 13, 2013, CBP published a notice in the Federal Register announcing CBP's plan to conduct an NCAP test concerning the electronic transmission of the PGA Message Set data elements required by FSIS for the importation of certain meat, poultry, and egg products to CBP through ACE. See 78 FR 75931 (December 13, 2013). Under this test, the PGA Message Set satisfied the FSIS data requirements for electronic entries filed in ACE and enabled the trade community to use the CBP-managed “single window” for the submission of data required by FSIS.

IV. Conclusion of the Successful PGA Message Set Test for FSIS Data

This notice announces that CBP has determined that ACE is fully capable of accepting electronic entries transmitted to ACE with the PGA Message Set data required for FSIS-regulated meat, poultry, and egg products. The electronic transmission of this data to ACE expedites delivery of this data to FSIS, thereby providing the data to FSIS before the products arrive for inspection. This allows FSIS to more effectively track and control shipments and improve compliance. Having found this test to be successful, CBP hereby concludes the test, effective October 11, 2016.

Dated: September 1, 2016.
Brenda B. Smith,
Executive Assistant Commissioner, Office of Trade.

[FR Doc. 2016-21673 Filed 9-8-16; 8:45 am]

BILLING CODE 9111-14-P